DEPARTMENT OF TRANSPORTATION

National Highway Traffic Safety Administration

Denial of Motor Vehicle Defect Petition, DP12-003

AGENCY: National Highway Traffic Safety Administration (NHTSA), Department of Transportation.

ACTION: Denial of petition for a defect investigation.

SUMMARY: This document denies a petition from Mr. Peter J. Gonzalez (the petitioner) of Fuquay Varina, NC, requesting that the agency open an investigation into headlamp failures on the model year (MY) 2008 Saturn Outlook and similar vehicles. After reviewing the petition and other information, NHTSA has concluded that further investigation of MY 2007-2009 Saturn Outlook vehicles and the similar GMC Acadia vehicles (subject vehicles) is unlikely to result in a determination that a safety-related defect exists. The agency accordingly denies the petition.

FOR FURTHER INFORMATION CONTACT: Mr. Steve Chan, Defects Assessment Division, Office of Defects Investigation, NHTSA, 1200 New Jersey Avenue SE., Washington, DC 20590. Telephone: (202) 366-8537.

SUPPLEMENTARY INFORMATION:

Alleged Problem

The petitioner alleges that his MY 2008 Saturn Outlook vehicle had experienced a loss of low beam headlamp illumination. The petitioner found that the headlamp harness mating to the headlamp had melted. He also noted that there were other complaints on NHTSA's Web site related to the same melting of the headlamp harness.

Loss of Headlamp Illumination

The United States Code for Motor Vehicle Safety (Title 49, Chapter 301) defines motor vehicle safety as “the performance of a motor vehicle or motor vehicle equipment in a way that protects the public against unreasonable risk of accidents occurring because of the design, construction, or performance of a motor vehicle, and against unreasonable risk of death or injury in an accident, and includes nonoperational safety of a motor vehicle.”

Over the last 25 years, ODI has opened numerous defect investigations of the loss of headlamp illumination. Investigations that resulted in safety recalls involved simultaneous loss of illumination from both headlamps. NHTSA does not consider the loss of a single headlamp as presenting an unreasonable safety risk—such failures are readily detectable by the driver while allowing the vehicle to retain forward visibility and conspicuity from the remaining headlamp. There is typically enough time between the failure of the first headlamp and the second during which the vehicle operator can obtain the needed repairs.

Subject Vehicle Complaints

As of July 16, 2014, out of a population of 248,453 subject vehicles, NHTSA identified 473 consumer complaints of inoperative headlamp(s). Many of these complaints indicated that the headlamp harness suffered damage from overheating. After reviewing the complaints, ODI found:

—69% (328) Alleged that a single headlamp was inoperative.

—18% (86) alleged that both headlamps were inoperative but not at the same time.

—9% (41) alleged that both headlamps were inoperative but the complaints did not indicate whether the failures had occurred at the same time.

—4% (17) alleged that both headlamps were inoperative at the same time.

—One additional complaint cited wire harness damage to both sides but did not specify an outage.

—No crashes or loss of vehicle control were reported.

—Reported thermal damage was limited to melting of the headlamp harness and/or the headlamp housing.

—Frequently, a headlamp would intermittently fail to illuminate or flickered before becoming completely inoperative.

For the seventeen complaints that alleged simultaneous failure of both headlamps while attempting to turn them on or while driving, the headlamp failures likely had occurred one at a time—the subject vehicle's headlamps are connected in a parallel circuit and each circuit is fused independently. Therefore, failure of one headlamp or its harness is very unlikely to affect the other headlamp's operation. Furthermore, during the agency's headlamp failure investigation PE09-019, a random sample of consumers was contacted by ODI in a telephone survey to verify their experiences. Though the consumers stated in complaints to the manufacturer that both headlamps failed at the same time, ODI discovered through its interviews of these complainants that, in fact, one headlamp would begin to flicker and then cut off while the other headlamp remained operational. In a few cases where no action was taken by the complainants, the second headlamp failed several months later; however none of those surveyed could confirm that both headlamps failed to illuminate simultaneously. There is no reason to believe this is not applicable to the subject vehicles as well.

Technical Service Bulletin

In May of 2009, General Motors Corporation (GM) issued Technical Bulletin #09-08-42-004 applicable to the MY 2007-2009 Saturn Outlook vehicles. The Subject: “Low Beam Headlamp Replacement/Diagnosis (Inspect Fuse, Bulb, Harness, Replace Harness and Fill Connector Cavity for Low Beam Bulb Connector with Nyogel Grease).” The bulletin provides corrective actions to address the condition that some customers describe as the low beam headlamp bulb being inoperative. A reduction of consumer complaints accompanied release of this bulletin, suggesting that the repair cost concerns on the part of many of the complainants were addressed.

Investigation Precedent

ODI previously opened two defect investigations concerning inoperative headlamps due to overheating and melting of headlamp harness—failures very similar to those described by owner of the subject vehicle. Both investigations were closed without a recall because a safety-related defect trend was not identified. The closing resume summary of PE04-020 stated: “Nissan and Ford found that the original equipment headlight stainless steel bulb terminals may over time cause elevated contact resistance and overheat the electrical connector housing. This can result in a headlight flickering, bulb outage and heat deformation to the headlight connector.

This problem can affect independently either headlight but does not cause simultaneous failure of both headlights. The problem also does not affect front parking lamps. As a result, the complaints typically report single failure of one headlight. There were no crashes or loss of vehicle control reported.”

In another previous investigation of headlamp harness failure (PE05-007), the closing resume summary stated: “Improper installation of the original equipment headlight connector can cause increased terminal resistance and overheat the headlight connector.

This problem can affect independently either headlight but does not cause simultaneous failure of both headlights. The problem also does not affect front parking lamps. As a result, the complaints typically report single failure of one headlight. There were no crashes or loss of vehicle control reported.”

Customer Satisfaction Program

In December of 2011, GM issued a Customer Satisfaction Program (CSP), Bulletin No. 11055 that applies to the subject vehicles. GM notified the owners to bring their vehicles to a GM dealer to have the headlamp connectors and the low beam headlamp bulbs replaced at no charge through 2013. Shortly after issuance of the more recent GM bulletin, related complaints to NHTSA decreased significantly from over a hundred annually to 21 for calendar year (CY) 2012, 33 for CY 2013 and only 11 (year-to-date) as of July 16, 2014.

Conclusion

Based on the information currently available, NHTSA does not believe that the headlamp condition as alleged by the petitioner indicates the likelihood of a safety-related defect that would warrant a formal investigation. Therefore, in view of the need to allocate and prioritize NHTSA's limited resources to best accomplish the agency's safety mission, the petition is denied.

Authority: 49 U.S.C. 30162(d); delegations of authority at CFR 1.50 and 501.8.

Nancy Lummen Lewis,
Associate Administrator for Enforcement.

[FR Doc. 2014-17984 Filed 7-30-14; 8:45 am]

BILLING CODE 4910-59-P